ENVIRONMENTAL PROTECTION AGENCY

40 CFR Part 98

[EPA-HQ-OAR-2010-0929; FRL-9456-3]

RIN 2060-AQ80

Change to the Reporting Date for Certain Data Elements Required Under the Mandatory Reporting of Greenhouse Gases Rule

AGENCY: Environmental Protection Agency (EPA).

ACTION: Final rule.

SUMMARY: EPA is deferring the reporting deadline for data elements that are used by direct emitter reporters as inputs to emission equations under the Mandatory Greenhouse Gas Reporting Rule. The deadline for reporting some of these data elements is deferred to March 31, 2013 and the deadline for reporting others is deferred to March 31, 2015. This final rule does not change any other requirements of the Mandatory Greenhouse Gas Reporting Rule.

DATES: This final rule is effective on September 9, 2011.

ADDRESSES: EPA has established a docket under Docket ID No. EPA-HQ-OAR-2010-0929 for this action. All documents in the docket are listed in the http://www.regulations.gov index. Although listed in the index, some information is not publicly available, e.g., confidential business information (CBI) or other information whose disclosure is restricted by statute. Certain other material, such as copyrighted material, is not placed on the Internet and will be publicly available only in hard copy form. Publicly available docket materials are available either electronically through http://www.regulations.gov or in hard copy at EPA's Docket Center, Public Reading Room, EPA West Building, Room 3334, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov. For technical information and implementation materials, please go to the Greenhouse Gas Reporting Program Web site http://www.epa.gov/climatechange/emissions/ghgrulemaking.html. To submit a question, select Rule Help Center, followed by Contact Us.

Worldwide Web (WWW). In addition to being available in the docket, an electronic copy of this rule will also be available through the WWW. Following the Administrator's signature, a copy of this action will be posted on EPA's Greenhouse Gas Reporting Program Web site at http://www.epa.gov/climatechange/emissions/ghgrulemaking.html.

SUPPLEMENTARY INFORMATION: Regulated Entities. The Administrator determined that this action is subject to the provisions of Clean Air Act (CAA) section 307(d). See CAA section 307(d)(1)(V) (the provisions of section 307(d) apply to “such other actions as the Administrator may determine”). These are final amendments to existing regulations. Entities affected by this final rule are owners or operators of facilities that are direct emitters of greenhouse gases (GHGs) and are required to report under the Mandatory GHG Reporting Rule (40 CFR part 98), which include those listed in Table 1 of this preamble:

Table 1—Examples of Affected Entities by Category
Category | NAICS | Examples of affected facilities
General Stationary Fuel Combustion Sources |  | Facilities operating boilers, process heaters, incinerators, turbines, and internal combustion engines.
| 321 | Manufacturers of lumber and wood products.
| 322 | Pulp and paper mills.
| 325 | Chemical manufacturers.
| 324 | Petroleum refineries and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
| 325193 | Ethyl alcohol manufacturing facilities.
| 311611 | Meat processing facilities.
| 311411 | Frozen fruit, juice, and vegetable manufacturing facilities.
| 311421 | Fruit and vegetable canning facilities.
Electricity Generation | 221112 | Fossil-fuel fired electric generating units, including units owned by Federal and municipal governments and units located in Indian Country.
Adipic Acid Production | 325199 | Adipic acid manufacturing facilities.
Aluminum Production | 331312 | Primary aluminum production facilities.
Ammonia Manufacturing | 325311 | Anhydrous and aqueous ammonia production facilities.
Cement Production | 327310 | Portland Cement manufacturing plants.
Electronics Manufacturing | 334111 | Microcomputers manufacturing facilities.
| 334413 | Semiconductor, photovoltaic (solid state) device manufacturing facilities.
| 334419 | LCD unit screens manufacturing facilities.
|  | MEMS manufacturing facilities.
Ferroalloy Production | 331112 | Ferroalloys manufacturing facilities.
Fluorinated GHG Production | 325120 | Industrial gases manufacturing facilities.
Glass Production | 327211 | Flat glass manufacturing facilities.
| 327213 | Glass container manufacturing facilities.
| 327212 | Other pressed and blown glass and glassware manufacturing facilities.
HCFC-22 Production and HFC-23 Destruction | 325120 | Chlorodifluoromethane manufacturing facilities.
Hydrogen Production | 325120 | Hydrogen production facilities.
Iron and Steel Production | 331111 | Integrated iron and steel mills, steel companies, sinter plants, blast furnaces, basic oxygen process furnace shops.
Lead Production | 331419 | Primary lead smelting and refining facilities.
| 331492 | Secondary lead smelting and refining facilities.
Lime Production | 327410 | Calcium oxide, calcium hydroxide, dolomitic hydrates manufacturing facilities.
Magnesium Production | 331419 | Primary lead smelting and refining facilities.
| 331492 | Secondary lead smelting and refining facilities.
Municipal Solid Waste Landfills | 562212 | Solid waste landfills.
| 221320 | Sewage treatment facilities.
Nitric Acid Production | 325311 | Nitric acid production facilities.
Petrochemical Production | 32511 | Ethylene dichloride production facilities.
| 325199 | Acrylonitrile, ethylene oxide, methanol production facilities.
| 325110 | Ethylene production facilities.
| 325182 | Carbon black production facilities.
Petroleum and Natural Gas Systems | 486210 | Pipeline transportation of natural gas.
| 221210 | Natural gas distribution facilities.
| 211 | Extractors of crude petroleum and natural gas.
| 211112 | Natural gas liquid extraction facilities.
Petroleum Refineries | 324110 | Petroleum refineries.
Phosphoric Acid Production | 325312 | Phosphoric acid manufacturing facilities.
Pulp and Paper Manufacturing | 322110 | Pulp mills.
| 322121 | Paper mills.
| 322130 | Paperboard mills.
Silicon Carbide Production | 327910 | Silicon carbide abrasives manufacturing facilities.
Soda Ash Manufacturing | 325181 | Alkalies and chlorine manufacturing facilities.
| 212391 | Soda ash, natural, mining and/or beneficiation.
Sulfur Hexafluoride (SF6) from Electrical Equipment | 221121 | Electric bulk power transmission and control facilities.
Titanium Dioxide Production | 325188 | Titanium dioxide manufacturing facilities.
Underground Coal Mines | 212113 | Underground anthracite coal mining operations.
| 212112 | Underground bituminous coal mining operations.
Zinc Production | 331419 | Primary zinc refining facilities.
| 331492 | Zinc dust reclaiming facilities, recovering from scrap and/or alloying purchased metals.
Industrial Landfills | 562212 | Solid waste landfills.
| 221320 | Sewage treatment facilities.
| 322110 | Pulp mills.
| 322121 | Paper mills.
| 322122 | Newsprint mills.
| 322130 | Paperboard mills.
| 311611 | Meat processing facilities.
| 311411 | Frozen fruit, juice and vegetable manufacturing facilities.
| 311421 | Fruit and vegetable canning facilities.
Wastewater Treatment | 322110 | Pulp mills.
| 322121 | Paper mills.
| 322122 | Newsprint mills.
| 322130 | Paperboard mills.
| 311611 | Meat processing facilities.
| 311411 | Frozen fruit, juice and vegetable manufacturing facilities.
| 311421 | Fruit and vegetable canning facilities.
| 325193 | Ethanol manufacturing facilities.
CO2 Enhanced Recovery Projects | 211 | Oil and Gas Extraction Projects using CO2 Enhanced Recovery.
Geologic Sequestration Sites |  | CO2 Geologic sequestration projects.

Table 1 of this preamble is not intended to be exhaustive, but rather provides a guide for readers regarding facilities and suppliers likely to be affected by this action. Table 1 of this preamble lists types of facilities that may be affected by the reporting requirements. Other types of facilities and suppliers than those listed in the table may also be subject to reporting requirements. To determine whether you are affected by this action, you should carefully examine the applicability criteria found in 40 CFR part 98, subpart A or the relevant criteria in the subparts. If you have questions regarding the applicability of this action to a particular facility or supplier, consult the person listed in the preceding FOR FURTHER GENERAL INFORMATION CONTACT section.

What is the effective date? EPA is making this final rule effective on September 9, 2011. Section 553(d) of the Administrative Procedure Act (APA), 5 U.S.C. Chapter 5, generally provides that rules may not take effect earlier than 30 days after they are published in the Federal Register. EPA is issuing this final rule under CAA section 307(d)(1), which states: “The provisions of section 553 through 557 * * * of Title 5 shall not, except as expressly provided in this section, apply to actions to which this subsection applies.” Thus, section 553(d) of the APA does not apply to this rule. EPA is nevertheless acting consistently with APA section 553(d) in making this rule effective on September 9, 2011.

APA section 553(d)(1) provides an exception to the 30-day publication requirement for any rule that grants or recognizes an exemption or relieves a restriction. This final rule provides relief to the current requirement to report inputs to emission equations by September 30, 2011 for 34 subparts of 40 CFR part 98 or March 31, 2012 for eight subparts of 40 CFR part 98 by deferring these deadlines to either March 31, 2013 or March 31, 2015, depending on the data elements. Because this action defers the regulatory deadline for a reporting requirement, a shorter effective date is consistent with this exception. Further, the purpose of the 30-day waiting period prescribed in APA section 553(d) is to give affected parties a reasonable time period to adjust their behavior and prepare before the final rule takes effect. Because this final rule defers a reporting deadline, it requires little preparation or behavior adjustment. Where, as here, the final rule will be signed and made available on the EPA Web site more than 15 days before the effective date, that purpose is still met.

Accordingly, EPA finds it appropriate, consistent with APA section 553(d)(1), to make this rule effective on September 9, 2011, even though this results in an effective date fewer than 30 days from the date of publication in the Federal Register.

Judicial Review. Under section 307(b)(1) of the CAA, judicial review of this final rule is available only by filing a petition for review in the U.S. Court of Appeals for the District of Columbia Circuit (the Court) by October 24, 2011. Under CAA section 307(d)(7)(B), only an objection to this final rule that was raised with reasonable specificity during the period for public comment can be raised during judicial review. CAA section 307(d)(7)(B) also provides a mechanism for EPA to convene a proceeding for reconsideration, “[i]f the person raising an objection can demonstrate to EPA that it was impracticable to raise such objection within [the period for public comment] or if the grounds for such objection arose after the period for public comment (but within the time specified for judicial review) and if such objection is of central relevance to the outcome of the rule.” Any person seeking to make such a demonstration to us should submit a Petition for Reconsideration to the Office of the Administrator, Environmental Protection Agency, Room 3000, Ariel Rios Building, 1200 Pennsylvania Ave., NW., Washington, DC 20460, with a copy to the person listed in the preceding FOR FURTHER GENERAL INFORMATION CONTACT section, and the Associate General Counsel for the Air and Radiation Law Office, Office of General Counsel (Mail Code 2344A), Environmental Protection Agency, 1200 Pennsylvania Ave., NW., Washington, DC 20004. Note, under CAA section 307(b)(2), the requirements established by this final rule may not be challenged separately in any civil or criminal proceedings brought by EPA to enforce these requirements.

Acronyms and Abbreviations. The following acronyms and abbreviations are used in this document.

APA Administrative Procedure Act.

CAA Clean Air Act.

CH4 methane.

CFR Code of Federal Regulations.

CBI confidential business information.

CO2 carbon dioxide.

EPA U.S. Environmental Protection Agency.

FTC Federal Trade Commission.

FR Federal Register.

GHG greenhouse gas.

HCFC-22 chlorodifluoromethane.

HFC-23 trifluoromethane (or CHF3).

ICR Information Collection Request.

LCD liquid crystal display.

MEMS microelectricomechanical system.

N2O nitrous oxide.

NAICS North American Industry Classification System.

NTTAA National Technology Transfer and Advancement Act of 1995.

OMB Office of Management and Budget.

RFA Regulatory Flexibility Act.

SF6 sulfur hexafluoride.

UMRA Unfunded Mandates Reform Act of 1995.

U.S. United States.

WWW Worldwide Web.

Table of Contents

I. Background

A. How is this preamble organized?

B. Background on This Action

II. Summary of Major Changes Since Proposal

A. Changes to the Date for Reporting Inputs to Equations

B. Changes to the List of Deferred Data Elements

III. Response to Significant Comments on the Proposed Amendments

IV. Statutory and Executive Order Reviews

A. Executive Order 12866: Regulatory Planning and Review and Executive Order 13563: Improving Regulation and Regulatory Review

B. Paperwork Reduction Act

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations

K. Congressional Review Act

I. Background

A. How is this preamble organized?

The first section of this preamble contains basic background information about the origin of these rule amendments. The second section of this preamble summarizes major changes since proposal, including changes to the length of the deferral and to the list of data elements categorized as inputs to emission equations. The third section provides an overview of EPA's response to significant comments. Finally, the fourth section of the preamble discusses the various statutory and executive order requirements applicable to this rulemaking.

B. Background on This Action

On October 30, 2009, EPA published the Mandatory Greenhouse Gas Reporting Rule for requiring data reporting regarding greenhouse gas emissions from a broad range of industry sectors (74 FR 56260). Under 40 CFR part 98 and its subsequent amendments (hereinafter referred to as “Part 98”), EPA will require reporting of data from certain facilities and suppliers above specified thresholds. The data to be reported include information on GHG emissions and GHGs supplied, including information necessary to characterize, quantify, and verify the GHG emissions and GHGs supplied data. In the preamble to Part 98, we stated, “Through a notice and comment process, we will establish those data elements that are ‘emissions data’ and therefore [under CAA section 114(c)] will not be afforded the protections of CBI. As part of that exercise, in response to requests provided in comments, we may identify classes of information that are not emissions data, and are CBI” (74 FR 56287, October 30, 2009).

On July 7, 2010, EPA proposed confidentiality determinations for Part 98 data elements and proposed amending EPA's regulation for handling confidential business information to add specific procedures for the treatment of Part 98 data (75 FR 39094; hereinafter referred to as the “July 7, 2010 CBI proposal”). These proposed amendments to 40 CFR part 2 would allow EPA to release Part 98 data that are determined to be emission data or non-CBI upon finalizing the confidentiality status of these data. The amendments also set forth procedures for treatment of information in Part 98 determined to be CBI. The proposed procedures are similar to or consistent with the existing 40 CFR part 2 procedures.

The July 7, 2010 CBI proposal proposed confidentiality statuses for the data elements for subparts that were included in the 2009 final Part 98 rule (see 74 FR 56260, October 30, 2009); four subparts finalized in July 2010 (see 75 FR 39736, July 12, 2010); and seven new subparts that had been proposed but not yet finalized as of July 2010 (see 75 FR 18576, 75 FR 18608, and 75 FR 18652, April 12, 2010). The July 7, 2010 CBI proposal also covered proposed changes to the reporting requirements for some of the 2009 final Part 98 subparts. These changes were proposed in two separate rulemakings (see 75 FR 18455, April, 12, 2010; and 75 FR 33950, June 15, 2010).

On August 11, 2010, EPA published a proposed amendment to Part 98 to change the description of some reported data elements and require reporting of some new data elements (75 FR 48744; hereinafter referred to as the “August 11, 2010 revisions proposal”). EPA concurrently issued a supplemental CBI proposal that proposed confidentiality determinations for the new and revised data elements included in the August 11, 2010 revisions proposal (75 FR 43889, July 27, 2010; hereinafter referred to as the “July 27, 2010 supplemental CBI proposal”).

As described in detail in the CBI proposals identified above, EPA grouped Part 98 data into 22 data categories (11 direct emitter data categories and 11 supplier data categories), with each of the categories containing data elements that are similar in type or characteristics. EPA then proposed confidentiality determinations for each category, with a few exceptions that are not relevant to today's action. Consistent with EPA's long-standing interpretation, EPA proposed that data elements in the inputs to emission equations data category meet the definition of emission data under 40 CFR 2.301(a)(2)(i) and therefore, under CAA section 114(c), could not be held as confidential once they were reported to EPA.

EPA received numerous public comments on the July 7, 2010 CBI proposal and the July 27, 2010 supplemental CBI proposal. EPA received comments that raised concerns regarding the public availability of data in the inputs to emission equations category. EPA determined that these concerns warranted an in-depth evaluation of the potential impact from the release of inputs to emission equations, as well as collection and review of additional information, that could not be completed before the March 31, 2011 reporting deadline.

In the proposal to this final rulemaking (75 FR 81350, December 27, 2010, hereinafter referred to as the “December 27, 2010 deferral proposal”), EPA proposed to defer the reporting of inputs to equations until March 31, 2014, to afford additional time to complete this evaluation and take appropriate final actions regarding inputs to equations before these data elements are reported to EPA and potentially become subject to release. The deferral proposal concerned only reporting of inputs to emission equations for direct emitters and did not affect any other requirements of Part 98.

Concurrent with that notice, EPA promulgated an interim final rule (75 FR 81338, December 27, 2010) that deferred the initial March 31, 2011 reporting date for inputs to emission equations to August 31, 2011, to give EPA time to promulgate this deferral through notice and comment. (See Section III of the preamble to the interim final rule for a detailed rationale.)

EPA concurrently published a call for information, entitled “Information on Inputs to Emission Equations under the Mandatory Reporting of Greenhouse Gases Rule” (75 FR 81366, December 27, 2010; hereinafter referred to as the “call for information”), to collect additional information to assist EPA with the evaluation of the data elements being deferred. In the call for information, we requested comment on whether each data element used as an input to an emission equation for direct emitters was likely to cause substantial competitive harm if made publicly available; whether and where it was already publicly available; and, if public availability of a given input was likely to cause substantial competitive harm, suggestions of alternate calculation methodologies and/or verification approaches.

A later Federal Register notice extended the deadline for reporting of all 2010 reporting year data until September 30, 2011 (76 FR 14812, March 18, 2011). This included those data whose reporting deadline had previously been deferred until August 31, 2011, in the interim final rule.

Based on the July 7, 2010 CBI proposal, July 27 supplemental CBI proposal, and comments thereto, EPA promulgated confidentiality determinations for certain data elements required to be reported under Part 98 and finalized amendments to the Special Rules Governing Certain Information Obtained Under the Clean Air Act, which authorizes EPA to release or withhold as confidential reported data according to the confidentiality determinations for such data without taking further procedural steps (76 FR 30782, May 26, 2011, hereinafter referred to as the “May 26, 2011 Final CBI Rule”). That notice addressed reporting of data elements in 34 subparts that were determined not to be inputs to emission equations and therefore were not proposed to have their reporting deadline deferred. That rule did not make confidentiality determinations for eight subparts for which reporting requirements were finalized after publication of the July 7, 2010 CBI proposal and July 27, 2010 supplemental CBI proposal. As explained in Section II.A.3 of the preamble to the May 26, 2011 Final CBI Rule, EPA will address the confidentiality of the data elements in those eight subparts in a separate action. That rule also did not address data elements used as inputs to emission equations, which are addressed in this final rule.

II. Summary of Major Changes Since Proposal

This section provides a summary of major changes since proposal, including the date to which the reporting of inputs to equations is deferred as well as the list of data elements categorized as inputs to emission equations.

A. Changes to the Date for Reporting Inputs to Equations

In the December 27, 2010 deferral proposal, EPA proposed to defer reporting of inputs to equations until March 31, 2014. For the reasons stated below, in this final rule, EPA is deferring the reporting deadline for some inputs to equations to March 31, 2013 and the others to March 31, 2015. For a list of inputs to equations to be reported under each deadline, please see Tables A-6 and A-7 in the regulatory text at the end of this notice.

In the preamble to the proposed rule, EPA explained that it proposed to defer reporting of inputs to emission equations to allow EPA adequate time to fully evaluate whether and the extent to which potential competitive harm may result if any of the inputs to equations data elements were reported and made publicly available, and whether emissions can be calculated or verified using additional methodologies, consistent with the transparency and accuracy goals of Part 98 (75 FR 81350, 81355). EPA therefore proposed to defer the reporting of inputs to equations until March 31, 2014, with the goal of completing its evaluations and other necessary actions in advance of that date.

As mentioned in the Background section (Section I.B of this preamble), concurrent with the December 27, 2010 deferral proposal, EPA issued a call for information to obtain additional information that would assist EPA in its evaluations. In the call for information, EPA requested specific information identifying how public availability of any input to an emission equation would cause harm to any reporter, and which data elements that are inputs to emission equations are already publicly available or otherwise not sensitive for any reporter. EPA also requested suggestions of additional calculation methodologies and verification approaches for specific subparts that would achieve the transparency and accuracy goals of Part 98 without requiring reporting of data elements that commenters consider likely to cause substantial competitive harm.

Since the December 27, 2010 deferral proposal, EPA has been heavily engaged in the evaluations described above. For a detailed description of the activities EPA is undertaking to evaluate each input to equations, please see a memorandum to the docket, “Process for Evaluating and Potentially Amending Part 98 Inputs to Emission Equations.” For the reasons stated below, the evaluations have proven to be more complex and time-consuming than EPA had anticipated. Because EPA had not received as much information as it had anticipated through the call for information, EPA is spending more time collecting information and identifying potential impacts and solutions. Furthermore, based on the comments received in response to the deferral proposal and the call for information, the number of data elements that would require a more in-depth evaluation is much larger than EPA had anticipated at the time of the deferral proposal.

As noted above, EPA proposed to defer the reporting of inputs to equations to March 31, 2014, with the goal of completing its evaluations and other necessary actions by that date. Despite the difficulties described above, EPA anticipates that it can complete its evaluations for some inputs to equations by March 31, 2013. Accordingly, in this final rule, EPA is requiring reporting of these inputs to equations by March 31, 2013, a year sooner than proposed. These data elements are those for which EPA either is further along or able to proceed more quickly in the evaluation processes (as outlined in the docket memorandum). However, for the remaining inputs, due to the difficulties described above, EPA either is less far along or the evaluation processes are more time-consuming. For these inputs to equations, EPA is deferring the reporting deadline to March 31, 2015. As we explained in the December 27, 2010 deferral proposal, deferral of the inputs reporting deadline to either date does not change any other requirements of Part 98, including the requirement that these data elements be retained as records in a form that is suitable for expeditious inspection and review (required for all Part 98 records by 40 CFR 98.3(g)).

The results of our decision regarding the reporting deadline for each input are provided in Tables A-6 and A-7, and in the Response to Comments document in the docket titled, “Response to Comments on the Greenhouse Gas Reporting Rule—Deferral Notice and Call For Information.”

B. Changes to the List of Deferred Data Elements

In this notice, we are including in the list of deferred data elements 16 data elements that were not identified as inputs to equations in the December 27, 2010 deferral proposal. We are also removing 24 data elements that were either incorrectly identified as inputs to equations in the December 27, 2010 deferral proposal or are no longer required to be reported. In addition, we are clarifying the deferral regarding three data elements that are used as inputs to emission equations in some circumstances but not in others.

EPA received numerous public comments on the December 27, 2010 deferral proposal, including some comments contending that additional data elements besides those listed in the proposed regulatory text are inputs to emission equations. We agree with commenters that six data elements that were not included in the December 27, 2010 deferral proposal are actually inputs to emission equations and, therefore, should be deferred. These data elements are the following:

• Subpart Y: Quantity of unstabilized crude oil received during the calendar year (40 CFR 98.256(o)(6)).¹

¹ This data element is listed in one of the 34 Part 98 subparts addressed in the May 26, 2011 Final CBI Rule. Consistent with that rule's treatment of inputs to emission equations, that rule did not assign a confidentiality determination to this data element.

• Subpart Y: Average pressure differential (40 CFR 98.256(o)(6)).¹

• Subpart Y: Mole fraction of methane (CH4) in vent gas from the unstabilized crude oil storage tank (40 CFR 98.256(o)(6)).¹

• Subpart Y: Tank-specific methane composition data (40 CFR 98.256(o)(7)).¹

• Subpart Y: Gas generation rate data (40 CFR 98.256(o)(7)).¹

• Subpart TT: Surface area (in square meters) at the start of the reporting year for the landfill sections that contain waste and that are associated with the selected cover type (for facilities using a landfill gas collection system) (40 CFR 98.466(e)(2)).¹

EPA agrees with the comments that the six data elements described above are inputs to emission equations. In light of these comments, EPA reviewed the data elements lists to assure proper categorization and identified nine additional data elements that are inputs to emission equations, but were not included in the December 27, 2010 deferral proposal. These data elements are the following:

• Subpart I: Fraction of each fluorinated GHG or N2O destroyed or removed in abatement systems connected to process tools where recipe, process sub-type, or process type j is used (40 CFR 98.96(o)).²

• Subpart I: All inputs and results of calculations made accounting for the uptime of abatement systems used during the reporting year, in accordance with Equations I-14 and I-15 of this subpart (40 CFR 98.96(q)(2)).²

• Subpart L: Where missing data have been estimated pursuant to 40 CFR 98.125 report, estimate of the missing data (40 CFR 98.126(d)).²

• Subpart U: Annual carbonate input by carbonate type (40 CFR 98.216(f)(1)).¹

• Subpart U: Annual carbonate output by carbonate type (40 CFR 98.216(f)(2)).¹

• Subpart W: For gas well completions and workovers without hydraulic fracturing: total count of completions in calendar year (40 CFR 98.236(c)(6)(ii)(A)).²

• Subpart W: Count of compressors (40 CFR 98.236(c)(14)(v)(A)).²

• Subpart TT: Last year the landfill accepted waste (for closed landfills using Equation TT-4) (40 CFR 98.466(a)(3)).¹

• Subpart TT: Capacity of the landfill in metric tons (for closed landfills using Equation TT-4) (40 CFR 98.466(a)(4)).¹

² This data element is listed in one of the eight Part 98 subparts that were not addressed in the May 26, 2011 Final CBI Rule but for which confidentiality determinations will be addressed in a separate action; see section II.A.3 of the preamble to the May 26, 2011 Final CBI Rule.

In addition, there are 23 data elements that were incorrectly identified in the December 27, 2010 deferral proposal as inputs to emissions equations. For four of these data elements that are in the 34 subparts addressed in the May 26, 2011 Final CBI Rule, EPA assigned them to the appropriate categories and made final determinations regarding their confidentiality status in that rule. Consistent with the Final CBI Rule, EPA is removing those data elements from the deferral list in this final rule. These data elements are:

• Subpart C: Percentage of source operating hours for which substitute data is used for stack gas flow rate (40 CFR 98.36(e)(2)(vi)(C)).

• Subpart C: Percentage of source operating hours for which substitute data is used for stack gas moisture content (40 CFR 98.36(e)(2)(vi)(C)).

• Subpart Y: Average coke burn-off quantity per cycle or measurement period, and average carbon content of coke (40 CFR 98.256(f)(13)).

• Subpart FF: Dates in quarterly reporting period where active ventilation of mining operations is taking place (40 CFR 98.326(l)).

The remaining 19 data elements that were incorrectly identified in the proposed deferral as inputs to emissions equations were in the eight subparts not covered by the May 26, 2011 Final CBI Rule. As explained in Section II.A.3 of the preamble to that rule, EPA will address the confidentiality of the data elements in those eight subparts in a separate action. Consistent with the actions described above, EPA is removing these 19 data elements from the list of inputs to emission equations in this final rule. These data elements are:

• Subpart I: For all fluorinated GHGs and N2O used at your facility for which you have not calculated emissions using Equations I-6, I-7, I-8, I-9, and I-10, the chemical name of the GHG used, the annual consumption of the gas, and a brief description of its use (40 CFR 98.96(g)).

• Subpart I: Certification that each abatement system has been installed, maintained, and operated in accordance with manufacturers' specifications (40 CFR 98.96(q)(1)).

• Subpart W: Total number of days of gas venting to the atmosphere during backflow for completion (40 CFR 98.236(c)(6)(ii)(C)).

• Subpart W: Number of wellhead separators sending oil to atmospheric tanks (40 CFR 98.236(c)(8)(i)(A)).

• Subpart W: Count of hydrocarbon tanks at well pads (40 CFR 98.236(c)(8)(i)(D)).

• Subpart W: Best estimate of count of stock tanks not at well pads receiving your oil (40 CFR 98.236(c)(8)(i)(E)).

• Subpart W: Count of tanks with emissions control measures, either vapor recovery system or flaring, for tanks at well pads (40 CFR 98.236(c)(8)(i)(G)).

• Subpart W: Best estimate of count of stock tanks assumed to have emissions control measures not at well pads, receiving your oil (40 CFR 98.236(c)(8)(i)(H)).

• Subpart W: Range of concentrations of flash gas, CH4, and carbon dioxide (CO2) (40 CFR 98.236(c)(8)(i)(I)).

• Subpart W: Report emissions individually for Calculation Methodology 1 and 2 of § 98.233(j) (40 CFR 98.236(c)(8)(i)(J)).

• Subpart W: Total number of wells sending oil directly to tanks (40 CFR 98.236(c)(8)(ii)(B)).

• Subpart W: Total number of wells sending oil to separators off the well pads (40 CFR 98.236(c)(8)(ii)(C)).

• Subpart W: Count of hydrocarbon tanks on wellpads (40 CFR 98.236(c)(8)(ii)(E)).

• Subpart W: Count of hydrocarbon tanks, both on and off well pads assumed to have emissions control measures: either vapor recovery system or flaring of tank vapors (40 CFR 98.236(c)(8)(ii)(F)).

• Subpart W: Number of wells without wellhead separators (40 CFR 98.236(c)(8)(iii)(B)).

• Subpart W: Total volume of oil production in barrels per year (40 CFR 98.236(c)(8)(iii)(C)).

• Subpart W: CH4 and CO2 emissions (refer to Equation W-31 of § 98.233) collectively by equipment type (40 CFR 98.236(c)(15)(ii)(C)).

• Subpart W: Report emissions collectively (40 CFR 98.236(c)(17)(v)).

• Subpart W: Report annual throughput as determined by engineering estimate based on best available data for each industry segment listed in paragraphs (a)(1) through (a)(8) of this section (40 CFR 98.236(d)).

We also have removed the following data element from the list of deferred inputs to emission equations because it is no longer required to be reported.

• Subpart CC: Annual operating hours for manufacturing lines used to produce soda ash using liquid alkaline feedstock (40 CFR 98.296(b)(10)(vii)).

We also have added clarifications regarding the conditions under which certain data elements are deferred:

• Subpart Y: For 40 CFR 98.256(h)(5), we have clarified that the annual volume of recycled tail gas is deferred only for reporters who use this data element to calculate the recycling correction factor.

• Subpart HH: For 40 CFR 98.346(a), we have clarified that the last year the landfill accepted waste and the capacity of the landfill are deferred only when reported by closed landfills using Equation HH-3 to calculate emissions.

In this final rule, EPA has also deleted two erroneous rule citations from the list of inputs in the December 27, 2010 deferral proposal. These citations are 40 CFR 98.236(c)(14)(iv)(A) and (iv)(B). Though listed in the deferral proposal as reporting requirements for subpart W, these two paragraphs are not in the final subpart W rule published on November 30, 2010 (75 FR 74458).

III. Response to Significant Comments on the Proposed Amendments

This section contains a brief summary of the significant comments and our responses thereto. Other comments were also received. Responses to these comments can be found in “Response to Comments on the Greenhouse Gas Reporting Rule—Deferral Notice and Call for Information” in the docket.

Comment: Several commenters supported deferring all data elements used as inputs to emission equations through the proposed date of March 13, 2014. Some commenters specified the source categories and/or data elements for which they support the deferral. These commenters explained that the inputs in these categories would cause competitive harm if made publicly available and described how this would occur. For example, some of these commenters provided information on how release of certain product composition, production and throughput quantities, and raw material data elements could be used by their competitors to gain a competitive advantage and cause harm to the reporter. Some commenters noted that particular inputs are not publicly available and named steps that reporters take to protect these data. Some of these commenters noted that other Federal and State agencies that collect similar information treat the information as confidential.

Other commenters opposed deferring the reporting of any of the Part 98 data elements. Some commenters indicated that many of the data elements proposed for deferral are publicly available in Federal and State permits, State inventories, published studies, or other publicly available sources, or otherwise not likely to cause substantial competitive harm if made publicly available. Additionally, some data elements and subparts did not receive comments, and some received comments that asserted a position without providing evidence.

Response: EPA appreciates the comments in support of deferring the reporting deadline for inputs to equations. As part of the evaluations described in Section II.A of this preamble, EPA will consider the examples of competitive harm, public availability, and other factors that commenters provided for many of the inputs.

EPA disagrees with the comments opposing deferral of any of the inputs. However, as explained in Section II.A of this preamble, EPA is deferring the reporting deadline only until March 31, 2013 for those inputs for which our evaluations are less time-consuming or further along. For the others, the evaluations of which are more complex and time-consuming, EPA is deferring the reporting deadline until March 31, 2015.

Comment: Some commenters contended that the December 27, 2010 deferral proposal was contrary to law and Congressional intent and would subvert the spirit of the reporting mandate.

Response: EPA disagrees with these comments. Title II of the 2008 Consolidated Appropriations Act (H.R. 2764; Pub. L. 110-161) requires EPA to establish “mandatory reporting of greenhouse gas emissions above appropriate thresholds in all sectors” of the U.S. economy through publication of a draft rule within 9 months of the promulgation of the Appropriations Act and a final rule within 18 months, a task EPA accomplished in its promulgation of the Greenhouse Gas Reporting Program under Part 98. Congress left the Agency discretion in determining the specific data to be reported, timing of data reporting, and the methods of data calculation and verification. Today's action affects only the reporting deadline of the data elements identified as inputs to emission equations, which EPA has discretion to establish. During the deferral period, reporters must continue to report GHG emission levels and all other data required under Part 98 that are not identified as inputs to emission equations.

Comment: Some commenters referenced comments submitted by the Federal Trade Commission (FTC) on the July 7, 2010, CBI proposal, stating that public disclosure of specific data elements would create antitrust concerns.

Response: EPA appreciates the comments from the FTC and from commenters that referenced those comments. As explained in the memorandum to the docket describing EPA's process for evaluating the inputs to emission equations, “Process for Evaluating and Potentially Amending Part 98 Inputs to Emission Equations,” EPA will take these comments into consideration in determining the likelihood of each input to cause substantial competitive harm if released.

Comment: Several commenters indicated that deferring reporting of inputs to emission equations would interfere with State greenhouse gas reporting programs.

Response: EPA disagrees with these comments. The deferred reporting of inputs to emission equations under EPA's Greenhouse Gas Reporting Program does not affect the ability of States to require facilities to report these data elements.

Comment: Several commenters alleged that deferring the reporting deadline for inputs to emission equations would render EPA unable to verify reported emission totals during the deferral period.

Response: EPA disagrees with this comment. For the direct emitter source categories, EPA recognizes that, during the deferral period, we will receive fewer data upon which to conduct electronic verification. As a result, as described in the December 27, 2010 deferral proposal, EPA temporarily will place additional emphasis on direct follow-up with facilities. Although we will not be requiring the reporting of equation inputs during the deferral period, we will nonetheless be requiring reporting of several different types of data that will be used for verification. These data include the calculation methodologies used, specific test methods that were used to determine equation inputs, an indication of whether missing data procedures were used, and various operating characteristics such as plant and equipment capacities and production rates. These data will be used in the electronic verification process. EPA is confident that electronic verification coupled with more robust direct follow-up will achieve verification during the deferral period.

IV. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563 (76 FR 3821, January 21, 2011).

B. Paperwork Reduction Act

This action does not impose any new information collection burden. These amendments do not make any substantive changes to the reporting requirements in any of the subparts. The amendments simply delay reporting of certain data elements. However, the Office of Management and Budget has previously approved the information collection requirements for 31 subparts contained in the regulations promulgated on October 30, 2009 (ICR number 2300.03); subpart W promulgated on November 30, 2010 (ICR number 2376.02); subparts I, L, DD, QQ, and SS promulgated on December 1, 2010 (ICR number 2373.02); subparts T, FF, II, and TT promulgated on July 12, 2010; and subparts RR and UU promulgated on December 1, 2010 (ICR number 2372.02) under 40 CFR part 98 under the provisions of the Paperwork Reduction Act, 44 U.S.C. 3501 et seq.

C. Regulatory Flexibility Act (RFA)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field.

After considering the economic impacts of these rule amendments on small entities, I certify that this action will not have a significant economic impact on a substantial number of small entities. The rule amendments will not impose any new requirements on small entities that are not currently required by Part 98.

EPA took several steps to reduce the impact of Part 98 on small entities. For example, EPA determined appropriate thresholds that reduced the number of small businesses reporting. In addition, EPA conducted several meetings with industry associations to discuss regulatory options and the corresponding burden on industry, such as recordkeeping and reporting. For a summary of EPA's consultations with State and/or local officials or other representatives of State and/or local governments in developing Part 98, see Section VIII.D of the preamble to the final rule (74 FR 56370, October 30, 2009). Finally, EPA continues to conduct significant outreach on the GHG reporting program and maintains an “open door” policy for stakeholders to help inform EPA's understanding of key issues for the industries.

D. Unfunded Mandates Reform Act (UMRA)

Title II of the Unfunded Mandates Reform Act of 1995 (UMRA), 2 U.S.C. 1531-1538, requires Federal agencies, unless otherwise prohibited by law, to assess the effects of their regulatory actions on State, local, and Tribal governments and the private sector. Federal agencies must also develop a plan to provide notice to small governments that might be significantly or uniquely affected by any regulatory requirements. The plan must enable officials of affected small governments to have meaningful and timely input in the development of EPA regulatory proposals with significant Federal intergovernmental mandates and must inform, educate, and advise small governments on compliance with the regulatory requirements.

The rule amendments do not contain a Federal mandate that may result in expenditures of $100 million or more for State, local, and Tribal governments, in the aggregate, or the private sector in any one year. Thus, the rule amendments are not subject to the requirements of section 202 and 205 of the UMRA. This rule is also not subject to the requirements of section 203 of UMRA because it contains no regulatory requirements that might significantly or uniquely affect small governments. The amendments will not impose any new requirements that are not currently required for Part 98, and the rule amendments would not unfairly apply to small governments. Therefore, this action is not subject to the requirements of section 203 of the UMRA.

E. Executive Order 13132: Federalism

This action does not have federalism implications. It will not have substantial direct effects on the States, on the relationship between the national government and the States, or on the distribution of power and responsibilities among the various levels of government, as specified in Executive Order 13132.

These amendments apply directly to facilities that supply certain products that would result in GHGs when released, combusted or oxidized and facilities that directly emit greenhouses gases. They do not apply to governmental entities unless the government entity owns a facility that directly emits GHGs above threshold levels (such as a landfill), so relatively few government facilities would be affected. This regulation also does not limit the power of States or localities to collect GHG data and/or regulate GHG emissions. Thus, Executive Order 13132 does not apply to this action.

Although section 6 of Executive Order 13132 does not apply to this action, EPA did consult with State and local officials or representatives of State and local governments in developing Part 98. For a discussion of how Part 98 relates to existing State programs and a summary of EPA's consultations with State and local government representatives during the development of Part 98, see Sections II and VIII of the preamble for the final Part 98 (74 FR 56260, October 30, 2009), respectively. In addition, after the July 7, 2010 CBI proposal, EPA held meetings with associations including State and local agencies, and considered public comments submitted by such agencies in developing the final confidentiality determinations and 40 CFR part 2 amendments.

F. Executive Order 13175: Consultation and Coordination With Indian Tribal Governments

This action does not have Tribal implications, as specified in Executive Order 13175 (65 FR 67249, November 9, 2000). The rule amendments would not result in any changes to the requirements that are not currently required for Part 98. Thus, Executive Order 13175 does not apply to this action.

Although Executive Order 13175 does not apply to this action, EPA consulted with Tribal officials in developing Part 98. A summary of the concerns raised during that consultation and EPA's response to those concerns is provided in Section VIII.F of the preamble to the final Part 98 (74 FR 56371, October 30, 2009).

G. Executive Order 13045: Protection of Children From Environmental Health Risks and Safety Risks

EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution, or Use

This action is not subject to Executive Order 13211 (66 FR 28355, May 22, 2001), because it is not a significant regulatory action under Executive Order 12866.

I. National Technology Transfer and Advancement Act

Section 12(d) of the National Technology Transfer and Advancement Act of 1995 (NTTAA), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through the Office of Management and Budget (OMB), explanations when the Agency decides not to use available and applicable voluntary consensus standards.

This rulemaking does not involve technical standards. Therefore, EPA is not considering the use of any voluntary consensus standards.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that these rule amendments will not have disproportionately high and adverse human health or environmental effects on minority or low-income populations because it does not affect the level of protection provided to human health or the environment. This is because this rule addresses information collection and reporting procedures.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the U.S. prior to publication of the rule in the Federal Register. A Major rule cannot take effect until 60 days after it is published in the Federal Register. This action is not a “major rule” as defined by 5 U.S.C. 804(2). This rule will be effective September 9, 2011.

List of Subjects in 40 CFR Part 98

Environmental protection, Administrative practice and procedure, Greenhouse gases, Suppliers, Reporting and recordkeeping requirements.

Dated: August 19, 2011.
Lisa P. Jackson,
Administrator.

For the reasons stated in the preamble, title 40, Chapter I, of the Code of Federal Regulations is amended as follows:

PART 98—[AMENDED]

1. The authority citation for part 98 continues to read as follows:

Authority: 42 U.S.C. 7401, et seq.

Subpart A—[Amended]

2. Section 98.3 is amended by revising paragraph (c)(4)(vii) to read as follows:

§ 98.3 What are the general monitoring, reporting, recordkeeping, and verification requirements of this part?

* * * * *

(c) * * *

(4) * * *

(vii) The owner or operator of a facility is not required to report the data elements specified in Table A-6 to this subpart for calendar years 2010 through 2011 until March 31, 2013. The owner or operator of a facility is not required to report the data elements specified in Table A-7 to this subpart for calendar years 2010 through 2013 until March 31, 2015.

* * * * *

3. Subpart A is amended by revising Table A-6 to Subpart A of Part 98 and adding Table A-7 to Subpart A of Part 98 to read as follows:

Table A-6 to Subpart A of Part 98—Data Elements That Are Inputs to Emission Equations and for Which the Reporting Deadline Is March 31, 2013
Subpart | Rule citation (40 CFR part 98) | Specific data elements for which reporting date is March 31, 2013 (“All” means all data elements in the cited paragraph are not required to be reported until March 31, 2013)
C | 98.36(d)(1)(iv) | All.
C | 98.36(d)(2)(ii)(G) | All.
C | 98.36(d)(2)(iii)(G) | All.
C | 98.36(e)(2)(iv)(G) | All.
C | 98.36(e)(2)(viii)(A) | All.
C | 98.36(e)(2)(viii)(B) | All.
C | 98.36(e)(2)(viii)(C) | All.
C | 98.36(e)(2)(x)(A) | All.
C | 98.36(e)(2)(xi) | All.
DD | 98.306(a)(2) | All.
DD | 98.306(a)(3) | All.
DD | 98.306(d) | All.
DD | 98.306(e) | All.
DD | 98.306(f) | All.
DD | 98.306(g) | All.
DD | 98.306(h) | All.
DD | 98.306(i) | All.
DD | 98.306(j) | All.
DD | 98.306(k) | All.
DD | 98.306(l) | All.
FF | 98.326(a) | All.
FF | 98.326(b) | All.
FF | 98.326(c) | All.
FF | 98.326(f) | Only quarterly volumetric flow rate.
FF | 98.326(g) | Only quarterly CH4 concentration.
FF | 98.326(h) | Only weekly volumetric flow used to calculate CH4 liberated from degasification systems.
FF | 98.326(j) | All.
FF | 98.326(k) | All.
FF | 98.326(o) | All.
FF | 98.326(p) | Only assumed destruction efficiency for the primary destruction device and assumed destruction efficiency for the backup destruction device.
HH | 98.346(a) | Only year in which landfill first accepted waste, last year the landfill accepted waste (if used as an input in Equation HH-3), capacity of the landfill (if used as an input in Equation HH-3), and waste disposal quantity for each year of landfilling.
HH | 98.346(b) | Only quantity of waste determined using the methods in § 98.343(a)(3)(i), quantity of waste determined using the methods in § 98.343(a)(3)(ii), population served by the landfill for each year, and the value of landfill capacity (LFC) used in the calculation.
HH | 98.346(c) | All.
HH | 98.346(d)(1) | Only degradable organic carbon (DOC) value, methane correction factor (MCF) values, and fraction of DOC dissimilated (DOCF) values.
HH | 98.346(d)(2) | All.
HH | 98.346(e) | Only fraction of CH4 in landfill gas.
HH | 98.346(f) | Only surface area associated with each cover type.
HH | 98.346(g) | All.
HH | 98.346(i)(5) | Only annual operating hours for the primary destruction device, annual operating hours for the backup destruction device, destruction efficiency for the primary destruction device, and destruction efficiency for the backup destruction device.
HH | 98.346(i)(6) | All.
HH | 98.346(i)(7) | Only surface area specified in Table HH-3, estimated gas collection system efficiency, and annual operating hours of the gas collection system.
HH | 98.346(i)(9) | Only CH4 generation value.
II | 98.356(b)(1) | All.
II | 98.356(b)(2) | All.
II | 98.356(b)(3) | All.
II | 98.356(b)(4) | All.
II | 98.356(b)(5) | All.
II | 98.356(d)(1) | All.
II | 98.356(d)(7) | All.
II | 98.356(d)(8) | Only annual operating hours for the primary destruction device, annual operating hours for the backup destruction device, destruction efficiency of the primary destruction device, and destruction efficiency of the backup destruction device.
SS | 98.456(a) | All.
SS | 98.456(b) | All.
SS | 98.456(c) | All.
SS | 98.456(d) | All.
SS | 98.456(e) | All.
SS | 98.456(f) | All.
SS | 98.456(g) | All.
SS | 98.456(h) | All.
SS | 98.456(i) | All.
SS | 98.456(j) | All.
SS | 98.456(m) | All.
SS | 98.456(n) | All.
SS | 98.456(o) | All.
SS | 98.456(q) | All.
SS | 98.456(r) | All.
SS | 98.456(s) | All.
SS | 98.456(t) | Only for any missing data the substitute parameters used to estimate emissions in their absence.
TT | 98.466(a)(2) | All.
TT | 98.466(a)(3) | Only last year the landfill accepted waste (for closed landfills using Equation TT-4).
TT | 98.466(a)(4) | Only capacity of the landfill in metric tons (for closed landfills using Equation TT-4).
TT | 98.466(c)(1) | All.
TT | 98.466(c)(4)(i) | All.
TT | 98.466(c)(4)(ii) | All.
TT | 98.466(c)(4)(iii) | All.
TT | 98.466(d)(1) | All.
TT | 98.466(d)(2) | Only degradable organic carbon (DOCX) value used in calculations.
TT | 98.466(d)(3) | Only fraction of CH4 in landfill gas.
TT | 98.466(e)(2) | Only surface area (in square meters) at the start of the reporting year for the landfill sections that contain waste and that are associated with the selected cover type (for facilities using a landfill gas collection system).
TT | 98.466(f) | All.

Table A-7 to Subpart A of Part 98—Data Elements That Are Inputs to Emission Equations and for Which the Reporting Deadline Is March 31, 2015
Subpart | Rule citation (40 CFR part 98) | Specific data elements for which reporting date is March 31, 2015 (“All” means all data elements in the cited paragraph are not required to be reported until March 31, 2015)
A | 98.3(d)(3)(v) | All.
C | 98.36(b)(9)(iii) | Only estimate of the heat input.
C | 98.36(c)(2)(ix) | Only estimate of the heat input from each type of fuel listed in Table C-2.
C | 98.36(e)(2)(i) | All.
C | 98.36(e)(2)(ii)(A) | All.
C | 98.36(e)(2)(ii)(C) | Only HHV value for each calendar month in which HHV determination is required.
C | 98.36(e)(2)(ii)(D) | All.
C | 98.36(e)(2)(iv)(A) | All.
C | 98.36(e)(2)(iv)(C) | All.
C | 98.36(e)(2)(iv)(F) | All.
C | 98.36(e)(2)(ix)(D) | All.
C | 98.36(e)(2)(ix)(E) | All.
C | 98.36(e)(2)(ix)(F) | All.
E | 98.56(b) | All.
E | 98.56(c) | All.
E | 98.56(g) | All.
E | 98.56(h) | All.
E | 98.56(j)(1) | All.
E | 98.56(j)(3) | All.
E | 98.56(j)(4) | All.
E | 98.56(j)(5) | All.
E | 98.56(j)(6) | All.
E | 98.56(l) | All.
F | 98.66(a) | All.
F | 98.66(c)(2) | All.
F | 98.66(c)(3) | Only smelter-specific slope coefficients and overvoltage emission factors.
F | 98.66(e)(1) | Only annual anode consumption (No CEMS).
F | 98.66(f)(1) | Only annual paste consumption (No CEMS).
F | 98.66(g) | All.
G | 98.76(b)(2) | All.
G | 98.76(b)(7) | All.
G | 98.76(b)(8) | All.
G | 98.76(b)(9) | All.
G | 98.76(b)(10) | All.
G | 98.76(b)(11) | All.
H | 98.86(b)(2) | All.
H | 98.86(b)(5) | All.
H | 98.86(b)(6) | All.
H | 98.86(b)(8) | All.
H | 98.86(b)(10) | All.
H | 98.86(b)(11) | All.
H | 98.86(b)(12) | All.
H | 98.86(b)(13) | All.
H | 98.86(b)(15) | Only monthly kiln-specific clinker factors (if used) for each kiln.
I | 98.96(f)(1) | All.
I | 98.96(g) | Only annual consumption of the gas (excluding annual consumption of gases for which the reporter did not calculate emissions using Equations I-6, I-7, I-8, I-9, and I-10 of subpart L).
I | 98.96(h) | All.
I | 98.96(i) | All.
I | 98.96(j) | All.
I | 98.96(k) | All.
I | 98.96(l) | All.
I | 98.96(n) | All.
I | 98.96(o) | All.
I | 98.96(q)(2) | Only inputs and results of calculations made accounting for the uptime of abatement systems used during the reporting year.
I | 98.96(q)(3) | All.
I | 98.96(q)(5)(iv) | Only inputs used to calculate the class average.
I | 98.96(r) | All.
I | 98.96(s) | Only estimates of inputs into the heat transfer fluid mass balance equation.
K | 98.116(b) | Only annual production by product from each EAF (No CEMS).
K | 98.116(e)(4) | All.
K | 98.116(e)(5) | All.
L | 98.126(b)(1) | Only data used in calculating the absolute errors and data used in calculating the relative errors.
L | 98.126(b)(2) | All.
L | 98.126(b)(6) | Only mass of each fluorine-containing reactant fed into the process.
L | 98.126(b)(8)(i) | Only mass of each fluorine-containing product that is removed from the process and fed into the destruction device.
L | 98.126(b)(8)(ii) | Only mass of each fluorine-containing by-product that is removed from the process and fed into the destruction device.
L | 98.126(b)(8)(iii) | Only mass of each fluorine-containing reactant that is removed from the process and fed into the destruction device.
L | 98.126(b)(8)(iv) | Only mass of each fluorine-containing by-product that is removed from the process and recaptured.
L | 98.126(b)(8)(v) | All.
L | 98.126(b)(9)(i) | All.
L | 98.126(b)(9)(ii) | All.
L | 98.126(b)(9)(iii) | All.
L | 98.126(b)(10) | All.
L | 98.126(b)(11) | All.
L | 98.126(b)(12) | All.
L | 98.126(c)(1) | Only quantity of the process activity used to estimate emissions.
L | 98.126(c)(2) | All.
L | 98.126(d) | Only estimate of missing data.
L | 98.126(f)(1) | All.
L | 98.126(g)(1) | All.
L | 98.126(h)(2) | All.
N | 98.146(b)(2) | Only annual quantity of carbonate based-raw material charged to each continuous glass melting furnace.
N | 98.146(b)(4) | All.
N | 98.146(b)(6) | All.
O | 98.156(a)(2) | All.
O | 98.156(a)(7) | All.
O | 98.156(a)(8) | All.
O | 98.156(a)(9) | All.
O | 98.156(a)(10) | All.
O | 98.156(b)(1) | All.
O | 98.156(b)(2) | All.
O | 98.156(d)(1) | All.
O | 98.156(d)(2) | All.
O | 98.156(d)(3) | All.
O | 98.156(d)(4) | All.
O | 98.156(d)(5) | All.
O | 98.156(e)(1) | All.
P | 98.166(b)(2) | All.
P | 98.166(b)(5) | All.
P | 98.166(b)(6) | All.
Q | 98.176(b) | Only annual quantity taconite pellets, coke, iron, and raw steel (No CEMS).
Q | 98.176(e)(1) | All.
Q | 98.176(e)(3) | All.
Q | 98.176(e)(4) | All.
Q | 98.176(f)(1) | All.
Q | 98.176(f)(2) | All.
Q | 98.176(f)(3) | All.
Q | 98.176(f)(4) | All.
Q | 98.176(g) | All.
R | 98.186(b)(6) | All.
R | 98.186(b)(7) | All.
S | 98.196(b)(2) | All.
S | 98.196(b)(3) | All.
S | 98.196(b)(5) | All.
S | 98.196(b)(6) | All.
S | 98.196(b)(8) | All.
S | 98.196(b)(10) | All.
S | 98.196(b)(11) | All.
S | 98.196(b)(12) | All.
U | 98.216(b) | All.
U | 98.216(e)(1) | All.
U | 98.216(e)(2) | All.
U | 98.216(f)(1) | All.
U | 98.216(f)(2) | All.
V | 98.226(c) | All.
V | 98.226(d) | All.
V | 98.226(i) | All.
V | 98.226(j) | All.
V | 98.226(m)(1) | All.
V | 98.226(m)(3) | All.
V | 98.226(m)(4) | All.
V | 98.226(m)(5) | All.
V | 98.226(m)(6) | All.
V | 98.226(p) | All.
W | 98.236(c)(1)(i) | All.
W | 98.236(c)(1)(ii) | All.
W | 98.236(c)(1)(iii) | All.
W | 98.236(c)(2)(i) | All.
W | 98.236(c)(3)(i) | All.
W | 98.236(c)(3)(ii) | All.
W | 98.236(c)(3)(iii) | All.
W | 98.236(c)(4)(i)(A) | All.
W | 98.236(c)(4)(i)(B) | All.
W | 98.236(c)(4)(i)(C) | All.
W | 98.236(c)(4)(i)(D) | All.
W | 98.236(c)(4)(i)(E) | All.
W | 98.236(c)(4)(i)(F) | All.
W | 98.236(c)(4)(i)(G) | All.
W | 98.236(c)(4)(i)(H) | All.
W | 98.236(c)(4)(ii)(A) | All.
W | 98.236(c)(5)(iii) | All.
W | 98.236(c)(5)(iv) | All.
W | 98.236(c)(5)(v) | All.
W | 98.236(c)(6)(i)(B) | All.
W | 98.236(c)(6)(i)(D) | All.
W | 98.236(c)(6)(i)(E) | All.
W | 98.236(c)(6)(i)(F) | All.
W | 98.236(c)(6)(ii)(A) | All.
W | 98.236(c)(6)(ii)(B) | All.
W | 98.236(c)(7)(i) | All.
W | 98.236(c)(8)(i)(B) | All.
W | 98.236(c)(8)(i)(C) | All.
W | 98.236(c)(8)(i)(F) | All.
W | 98.236(c)(8)(ii)(A) | All.
W | 98.236(c)(8)(ii)(D) | All.
W | 98.236(c)(8)(iii)(A) | All.
W | 98.236(c)(8)(iii)(D) | All.
W | 98.236(c)(8)(iii)(E) | All.
W | 98.236(c)(10)(ii) | All.
W | 98.236(c)(10)(iii) | All.
W | 98.236(c)(11)(ii) | All.
W | 98.236(c)(12)(ii) | All.
W | 98.236(c)(12)(iii) | All.
W | 98.236(c)(12)(v) | All.
W | 98.236(c)(13)(i)(B) | All.
W | 98.236(c)(13)(i)(E) | All.
W | 98.236(c)(13)(i)(F) | All.
W | 98.236(c)(13)(ii)(A) | All.
W | 98.236(c)(13)(ii)(B) | All.
W | 98.236(c)(13)(iii)(A) | All.
W | 98.236(c)(13)(iii)(B) | All.
W | 98.236(c)(13)(v)(A) | All.
W | 98.236(c)(14)(i)(B) | All.
W | 98.236(c)(14)(ii)(A) | All.
W | 98.236(c)(14)(ii)(B) | All.
W | 98.236(c)(14)(iii)(A) | All.
W | 98.236(c)(14)(iii)(B) | All.
W | 98.236(c)(14)(v)(A) | All.
W | 98.236(c)(15)(i)(A) | All.
W | 98.236(c)(15)(i)(B) | All.
W | 98.236(c)(15)(ii)(A) | All.
W | 98.236(c)(15)(ii)(B) | All.
W | 98.236(c)(16)(i) | All.
W | 98.236(c)(16)(ii) | All.
W | 98.236(c)(16)(iii) | All.
W | 98.236(c)(16)(iv) | All.
W | 98.236(c)(16)(v) | All.
W | 98.236(c)(16)(vi) | All.
W | 98.236(c)(16)(vii) | All.
W | 98.236(c)(16)(viii) | All.
W | 98.236(c)(16)(ix) | All.
W | 98.236(c)(16)(x) | All.
W | 98.236(c)(16)(xi) | All.
W | 98.236(c)(16)(xii) | All.
W | 98.236(c)(16)(xiii) | All.
W | 98.236(c)(16)(xiv) | All.
W | 98.236(c)(17)(ii) | All.
W | 98.236(c)(17)(iii) | All.
W | 98.236(c)(17)(iv) | All.
W | 98.236(c)(18)(i) | All.
W | 98.236(c)(18)(ii) | All.
W | 98.236(c)(19)(iv) | All.
W | 98.236(c)(19)(vii) | All.
X | 98.246(a)(4) | Only monthly volume values, monthly mass values, monthly carbon content values, molecular weights for gaseous feedstocks, molecular weights for gaseous products, and indication of whether the alternative method in § 98.243(c)(4) was used.
X | 98.246(b)(5)(iii) | All.
X | 98.246(b)(5)(iv) | All.
Y | 98.256(e)(6) | Only molar volume conversion factor for each flare.
Y | 98.256(e)(7) | Only molar volume conversion factor for each flare.
Y | 98.256(e)(7)(ii) | All.
Y | 98.256(e)(9) | Only annual volume of flare gas combusted, annual average higher heating value of the flare gas, volume of gas flared, average molecular weight, carbon content of the flare, and molar volume conversion factor if using Eq. Y-3.
Y | 98.256(e)(10) | Only fraction of carbon in the flare gas contributed by methane.
Y | 98.256(f)(7) | Only molar volume conversion factor.
Y | 98.256(f)(10) | Only coke burn-off factor, annual throughput of unit, and average carbon content of coke.
Y | 98.256(f)(11) | Only units of measure for the unit-specific CH4 emission factor, activity data for calculating emissions, and unit-specific emission factor for CH4.
Y | 98.256(f)(12) | Only unit-specific emission factor for N2O, units of measure for the unit-specific N2O emission factor, and activity data for calculating emissions.
Y | 98.256(f)(13) | Only average carbon content of coke.
Y | 98.256(h)(4) | All.
Y | 98.256(h)(5) | Only value of the correction, annual volume of recycled tail gas (if used to calculate recycling correction factor), and annual average mole fraction of carbon in the tail gas (if used to calculate recycling correction factor).
Y | 98.256(i)(5) | Only annual mass of green coke fed, carbon content of green coke fed, annual mass of marketable coke produced, carbon content of marketable coke produced, and annual mass of coke dust removed from the process.
Y | 98.256(i)(7) | Only the unit-specific CH4 emission factor, units of measure for unit-specific CH4 emission factor, and activity data for calculating emissions.
Y | 98.256(i)(8) | Only units of measure for the unit-specific factor, activity data used for calculating emissions, and site-specific emissions factor.
Y | 98.256(j)(2) | All.
Y | 98.256(j)(5) | Only CO2 emission factor.
Y | 98.256(j)(6) | Only CH4 emission factor.
Y | 98.256(j)(7) | Only carbon emission factor.
Y | 98.256(j)(8) | Only CO2 emission factor and carbon emission factor.
Y | 98.256(j)(9) | Only CH4 emission factor.
Y | 98.256(k)(3) | Only dimensions of coke drum or vessel, typical gauge pressure of the coking drum, typical void fraction of coke drum or vessel, annual number of coke-cutting cycles of coke drum or vessel, and molar volume conversion factor for each coke drum or vessel.
Y | 98.256(k)(4) | Only height and diameter of the coke drums, cumulative number of vessel openings for all delayed coking drums, typical venting pressure, void fraction, mole fraction of methane in coking gas.
Y | 98.256(l)(5) | Only molar volume conversion factor.
Y | 98.256(m)(3) | Only total quantity of crude oil plus the quantity of intermediate products received from off-site, CH4 emission factor used, and molar volume conversion factor.
Y | 98.256(n)(3) | All (if used in Equation Y-21 to calculate emissions from equipment leaks).
Y | 98.256(o)(2)(ii) | All.
Y | 98.256(o)(4)(ii) | All.
Y | 98.256(o)(4)(iii) | All.
Y | 98.256(o)(4)(iv) | All.
Y | 98.256(o)(4)(v) | All.
Y | 98.256(o)(4)(vi) | Only tank-specific methane composition data and gas generation rate data.
Y | 98.256(o)(6) | Only quantity of unstabilized crude oil received during the calendar year; average pressure differential; and mole fraction of CH4 in vent gas from the unstabilized crude oil storage tank.
Y | 98.256(o)(7) | All.
Y | 98.256(p)(2) | Only quantity of materials loaded that have an equilibrium vapor-phase concentration of CH4 of 0.5 volume percent or greater.
Z | 98.266(f)(5) | All.
Z | 98.266(f)(6) | All.
AA | 98.276(b) | All.
AA | 98.276(c) | Only annual mass of the spent liquor solids combusted.
AA | 98.276(d) | All.
AA | 98.276(e) | All.
AA | 98.276(f) | All.
AA | 98.276(g) | All.
AA | 98.276(h) | All.
AA | 98.276(i) | All.
BB | 98.286(b)(1) | All.
BB | 98.286(b)(4) | All.
BB | 98.286(b)(6) | All.
CC | 98.296(b)(5) | Only monthly consumption of trona or liquid alkaline feedstock (for facilities using Equation CC-1).
CC | 98.296(b)(6) | Only monthly production of soda ash for each manufacturing line(for facilities using Equation CC-2).
CC | 98.296(b)(7) | All.
CC | 98.296(b)(10)(i) | All.
CC | 98.296(b)(10)(ii) | All.
CC | 98.296(b)(10)(iii) | All.
CC | 98.296(b)(10)(iv) | All.
CC | 98.296(b)(10)(v) | All.
CC | 98.296(b)(10)(vi) | All.
EE | 98.316(b)(6) | All.
EE | 98.316(b)(9) | All.
GG | 98.336(b)(6) | All.
GG | 98.336(b)(7) | All.
GG | 98.336(b)(10) | All.
II | 98.356(d)(2) | All (if conducting weekly sampling).
II | 98.356(d)(3) | All (if conducting weekly sampling).
II | 98.356(d)(4) | Only weekly average temperature (if conducting weekly sampling).
II | 98.356(d)(5) | Only weekly average moisture content (if conducting weekly sampling).
II | 98.356(d)(6) | Only weekly average pressure (if conducting weekly sampling).
TT | 98.466(c)(3)(i) | All.
TT | 98.466(c)(3)(ii) | Only waste disposal quantity and production quantity.
TT | 98.466(c)(3)(iii) | All.

[FR Doc. 2011-21727 Filed 8-24-11; 8:45 am]

BILLING CODE 6560-50-P